NUCLEAR REGULATORY COMMISSION

10 CFR Chapter I

[NRC-2023-0075]

Abnormal Occurrence Reporting

AGENCY: Nuclear Regulatory Commission.

ACTION: Proposed limited revision to policy statement; request for comments.

SUMMARY: The U.S. Nuclear Regulatory Commission (NRC) is proposing limited revisions to its policy statement on reporting abnormal occurrences (AO) to Congress. The proposed revisions are to the medical event criteria for determining events that are significant from the standpoint of public health or safety.

DATES: Submit comments by August 17, 2023. Comments received after this date will be considered if it is practical to do so, but the Commission is able to assure consideration only for comments received on or before this date.

ADDRESSES: You may submit comments by any of the following methods (unless this document describes a different method for submitting comments on a specific subject); however, the NRC encourages electronic comment submission through the Federal rulemaking website:

• Federal rulemaking website: Go to https://www.regulations.gov and search for Docket ID NRC-2023-0075. Address questions about NRC dockets to Dawn Forder; telephone: 301-415-3407; email: Dawn.Forder@nrc.gov. For technical questions contact the individual listed in the FOR FURTHER INFORMATION CONTACT section of this document.

• Email comments to: Rulemaking.Comments@nrc.gov. If you do not receive an automatic email reply confirming receipt, then contact us at 301-415-1677.

• Fax comments to: Secretary, U.S. Nuclear Regulatory Commission at 301-415-1101.

• Mail comments to: Secretary, U.S. Nuclear Regulatory Commission, Washington, DC 20555-0001, ATTN: Rulemakings and Adjudications Staff.

• Hand deliver comments to: 11555 Rockville Pike, Rockville, Maryland 20852, between 7:30 a.m. and 4:15 p.m. Eastern time (ET), Federal workdays; telephone: 301-415-1677.

For additional direction on obtaining information and submitting comments, see “Obtaining Information and Submitting Comments” in the SUPPLEMENTARY INFORMATION section of this document.

FOR FURTHER INFORMATION CONTACT: Edward Harvey, Office of Nuclear Regulatory Research, U.S. Nuclear Regulatory Commission, Washington, DC 20555-0001; telephone: 301-415-3704; email: Edward.Harvey@nrc.gov.

SUPPLEMENTARY INFORMATION:

I. Obtaining Information and Submitting Comments

A. Obtaining Information.

Please refer to Docket ID NRC-2023-0075 when contacting the NRC about the availability of information for this action. You may obtain publicly available information related to this action by any of the following methods:

• Federal Rulemaking Website: Go to https://www.regulations.gov and search for Docket ID NRC-2023-0075.

• NRC's Agencywide Documents Access and Management System (ADAMS): You may obtain publicly available documents online in the ADAMS Public Documents collection at https://www.nrc.gov/reading-rm/adams.html. To begin the search, select “ADAMS Public Documents” and then select “Begin Web-based ADAMS Search.” For problems with ADAMS, please contact the NRC's Public Document Room (PDR) reference staff at 1-800-397-4209, 301-415-4737, or by email to PDR.Resource@nrc.gov.

• NRC's PDR: You may examine and purchase copies of public documents, by appointment, at the NRC's PDR, Room P1 B35, One White Flint North, 11555 Rockville Pike, Rockville, Maryland 20852. To make an appointment to visit the PDR, please send an email to PDR.Resource@nrc.gov or call 1-800-397-4209 or 301-415-4737, between 8:00 a.m. and 4:00 p.m. (ET), Monday through Friday, except Federal holidays.

B. Submitting Comments.

The NRC encourages electronic comment submission through the Federal rulemaking website (https://www.regulations.gov). Please include Docket ID NRC-2023-0075 in your comment submission.

The NRC cautions you not to include identifying or contact information that you do not want to be publicly disclosed in your comment submission. The NRC will post all comment submissions at https://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Background

Section 208 of the Energy Reorganization Act of 1974, as amended (Pub. L. 93-438), defines an AO as an unscheduled incident or event that the NRC determines to be significant from the standpoint of public health or safety. The Federal Reports Elimination and Sunset Act of 1995 (Pub. L. 104-66) requires that AOs be reported to Congress annually. As required by section 208, the discussion for each event includes the date and place, the nature and probable consequences, the cause or causes, and the action taken to prevent recurrence. The Commission must also widely disseminate the AO report to the public within 15 days of publishing the AO report to Congress.

Abnormal Occurrence Reporting

The Commission has developed the AO policy statement to comply with Section 208 of the Energy Reorganization Act of 1974, as amended. The annual AO report is developed based upon the criteria in the AO policy statement. The AO report keeps Congress and the public informed of unscheduled incidents or events that the Commission considers significant from the standpoint of public health or safety. This policy addresses a range of health or safety concerns and applies to incidents and events involving a single individual, as well as those having an overall impact on the general public. The AO criteria set out in the policy use a reporting threshold so that only those events considered significant from the standpoint of public health or safety are reported to Congress.

Applicability

Implementation of section 208 of the Energy Reorganization Act of 1974, as amended, “Abnormal Occurrence Reports,” involves the conduct of Commission business and does not establish requirements for licensees or certified facilities. The reports cover certain unscheduled incidents or events related to the manufacture, construction, or operation of a facility or conduct of an activity subject to the requirements of parts 20, 30 through 37, 39, 40, 50, 61, 70, 71, 72 or 76 of chapter I, title 10, Code of Federal Regulations (10 CFR).

Agreement States provide information to the NRC on incidents and events involving applicable nuclear materials in their States. Agreement States are those States that have entered into formal agreements with the NRC, pursuant to Section 274 of the Atomic Energy Act of 1954 (AEA) (Pub. L. 83-703), to regulate certain quantities of radioactive material at facilities located within their borders. Events reported by Agreement States that reach the threshold for reporting as AOs are also published in the “Report to Congress on Abnormal Occurrences.”

Proposed Revisions

The NRC is proposing revisions to the AO criteria for medical events. The revisions to the medical event criteria improve conformance to current regulatory requirements, and reflect new developments in the new medical radiation treatments.

The NRC is requesting public comments on this policy statement at this time for medical event criteria. These proposed revisions may be found in ADAMS under Accession No. ML23123A351.

Licensee Reports

The changes to the general policy statement do not change the reporting requirements for licensees in Commission or Agreement State regulations, license conditions, or technical specifications. The licensees will continue to submit required reports on a wide range of events, including instrument malfunctions and deviations from normal operating procedures that may not be significant from the standpoint of the public health or safety but provide data useful to the Commission in monitoring operating trends of licensed facilities and in comparing the actual performance of these facilities with their design and/or licensing basis.

III. Paperwork Reduction Act

This policy statement does not contain a collection of information as defined in the Paperwork Reduction Act of 1995 (44 U.S.C. 3501 et seq.) and, therefore, is not subject to the requirements of the Paperwork Reduction Act of 1995.

Public Protection Notification

The NRC may not conduct or sponsor, and a person is not required to respond to, a collection of information unless the document requesting or requiring the collection displays a currently valid Office of Management and Budget control number.

Dated: May 12, 2023.
For the Nuclear Regulatory Commission.
Wesley W. Held,
Acting Secretary of the Commission.

[FR Doc. 2023-10538 Filed 5-18-23; 8:45 am]

BILLING CODE 7590-01-P